DEPARTMENT OF AGRICULTURE

Submission for OMB Review; Comment Request

July 15, 2004.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_ OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Animal & Plant Health Inspection Service

Title: Add Yucatan Peninsula to List of Regions Considered Free of END.

OMB Control Number: 0579-0228.

Summary of Collection: Title 21 U.S.C. authorizes sections 111, 114, 114a, 115, 120, 121, 125, 126, 134a, 134c, 134f, and 134g. These authorities permit the Secretary to prevent, control and eliminate domestic diseases such as brucellosis, as well as to take actions to prevent and manage exotic diseases such as classical swine fever and other foreign animal diseases. Disease prevention is the most effective method for maintaining a healthy animal population and enhancing the Animal and Plant Health Inspection Service (APHIS) ability to compete in the world market of animal and animal product trade. Veterinary Services, a program with APHIS, is responsible for carrying out this disease prevention mission. The agency regulates the importation of animals and animal products into the United States to guard against the introduction of exotic animal diseases such as exotic Newcastle disease (END). The regulations in 9 CFR part 94 allow the importation of poultry meat and products and live poultry from the Mexican States of Campeche, Quintana Roo, and Yucatan under conditions designed to ensure that the poultry meat and products and live poultry will not transmit END.

Need and Use of the Information: APHIS will collect information through the use of a certification statement that must be completed by Mexican veterinary authorities prior to export. The information collected from the certificate will provide APHIS with critical information concerning the origin and history of the items destined for importation in the United States. Without the information APHIS' ability to ensure that poultry, poultry meat, or other poultry products from certain States within Mexico pose a minimal risk of introducing exotic Newcastle disease and other exotic animal diseases in the United States.

Description of Respondents: Farms; individuals or households.

Number of Respondents: 5.

Frequency of Responses: Reporting: on occasion.

Total Burden Hours: 50.

Animal and Plant Health Inspection Service

Title: West Indian Fruit Fly.

OMB Control Number: 0579-0170.

Summary of Collection: The United States Department of Agriculture, Animal and Plant Health Inspection Service (APHIS) is responsible for preventing plant pests disease or insect pests from entering the United States, preventing the spread of noxious weeds not widely distributed in the United States, and eradicating those imported pests when eradication is feasible. Under the Plant Protection Act (PPA) (7 U.S.C. 7701-7772), the Secretary of Agriculture is authorized to prohibit or restrict the importation, entry, or movement of plant, and plant pests to prevent the introduction of plant pests in the United States or their dissemination within the United States. The West Indian fruit fly, is a very destructive pest of fruits and vegetables, including carambola, grapefruit, guava, limes, mangoes, oranges, passion fruit, peaches, and pears. This pest can cause serious economic losses by lowering the yield and quality of fruits and vegetables and, in some cases, by damaging seedlings and young plants.

Need and Use of the Information: APHIS will collect information using forms PPQ 540, to certify bulk shipments of regulated articles. If the information were not collected, APHIS would be unable to provide for the interstate movement of certain articles from the quarantined area.

Description of Respondents: Business or other for-profit.

Number of Respondents: 37.

Frequency of Responses: Reporting: on occasion.

Total Burden Hours: 37.

Animal & Plant Health Inspection Service

Title: TB Payments to El Paso, Texas.

OMB Control Number: 0579-0193.

Summary of Collection: Title 21 U.S.C. authorizes sections 111, 114, 114a, 115, 120, 121, 125, 126, 134a, 134c, 134f, and 134g. These authorities permit the Secretary to prevent, control and eliminate domestic diseases such as tuberculosis, as well as to take actions to prevent and to manage exotic diseases such as foot-and-mouth disease, rinderpest, and other foreign animal diseases. More specifically, 21 U.S.C. 111, 115, and 118 authorize the Secretary of Agriculture to take such measures as she may deem proper to prevent the introduction or dissemination of any contagious or communicable disease of animals or live poultry from a foreign country into the United States or from one State to another. Disease prevention is the most effective method for maintaining a healthy animal population and enhancing the Animal and Plant Health Inspection (APHIS) ability to compete in exporting animals and animal products. Since 1985, State Animal Health Officials in Texas, along with APHIS, have been taking measure to eliminate tuberculosis in dairy herds in the El Paso, Texas area. As result of these eradication efforts, dairy herds in the El Paso area have become free of tuberculosis, only to become reinfected again. Because of this situation, APHIS determined that it is necessary to remove all bovine dairy herds from El Paso to further the eradication of tuberculosis in the United States. If these owners agree to dispose of their dairy herds, close their existing dairy operations and refrain from establishing new cattle breeding operations in the area, APHIS would make payments to El Paso diary herd owners.

Need and Use of the Information: APHIS will collect information to provide payment to owners of dairy cattle and other property used in connection with dairy operations in the area of El Paso, Texas. To be eligible for payment under this program, all owners of dairy operations in the area of El Paso, Texas must sign and adhere to an agreement with APHIS.

Description of Respondents: Business or other for-profit; State, local or tribal government: farms.

Number of Respondents: 95.

Frequency of Responses: Reporting: on occasion.

Total Burden Hours: 875.

Animal and Plant Health Inspection Service

Title: Karnal Bunt; Compensation for Custom Harvesters in Northern Texas.

OMB Control Number: 0579-0248.

Summary of Collection: The United States Department of Agriculture, Animal and Plant Health Inspection Service (APHIS) is responsible for preventing plant pests disease or insect pests from entering the United States, preventing the spread of noxious weeds not widely distributed in the United States, and eradicating those imported pests when eradication is feasible. Under the Plant Protection Act (PPA) (7 U.S.C. 7701-7772), the Secretary of Agriculture is authorized to prohibit or restrict the importation, entry, or movement of plant, and plant pests to prevent the introduction of plant pests in the United States or their dissemination within the United States. The regulations regarding Karnal Bunt are set forth in 7 CFR parts 301.89-1 through 301.89-16. APHIS amended the Karnal Bunt regulations to provide for the payment of compensation to custom harvesters for losses they incurred due to the requirement that their equipment be cleaned and disinfected after four counties in northern Texas were declared regulated areas for Karnal Bunt during the 2000-2001 crop season.

Need and Use of the Information: APHIS will collect information using PPQ 540, Certificate of Federal/State Domestic Plant Quarantines. The certificate is used for domestic movement of treated articles relating to quarantines. The information collected is critical to the mission of preventing the infestation of Karnal Bunt into non-infested areas of the United States.

Description of Respondents: Farms; business or other for-profit.

Number of Respondents: 40.

Frequency of Responses: Reporting: on occasion.

Total Burden Hours: 8.

Foreign Agricultural Service

Title: Export Assistance and Services.

OMB Control Number: 0551-0031.

Summary of Collection: The Ag Export Services Division of the Foreign Agricultural Service (FAS) facilitates trade contacts between U.S. exporters and foreign buyers seeking U.S. food and agricultural products. Authority for this program falls under 7 U.S.C. part 1761, part 5693 and part 1765B. All of the assistance and services offered by the division are designed to promote U.S. agricultural exports; help. U.S. firms make contact with export agents, trading companies, importers and foreign buyers and create an opportunity to sell their products in overseas markets. The specific programs covered by authority are Trade Shows and Missions, U.S. Suppliers List, Buyer Alert, Foreign Buyers List, Customer Matchmaking, Export Directory of U.S. Food Distribution Companies, Trade Leads, Export Promotion Events, Madigan Award and Newsletters. This service provides the U.S. firm an opportunity to have a data record providing basic information about the company and the products it exports put into a USDA maintained database. FAS will collect information using a combination of forms and telephone interviews.

Need and Use of the Information: FAS will collect information on contact names, mailing addresses, telephones, fax, e-mail, and Web sites. The main purpose for collecting the information is to foster trade contacts in an effort to facilitate greater export of U.S. agriculture food, forestry, and fishery products. The databases are used to recruit U.S. exporters, importers, and buyers to participate in market development activities sponsored by USDA. These databases must be updated periodically to maintain the integrity and usefulness to the trade community.

Description of Respondents: Business or other for-profit.

Number of Respondents: 57,700.

Frequency of Responses: Reporting: annually; on occasion; quarterly.

Total Burden Hours: 8,463.

Foreign Agricultural Service

Title: Export Sales of U.S. Agricultural Commodities.

OMB Control Number: 0551-0007.

Summary of Collection: The export sales reporting system provides commodity market participants with information about commodity export commitments and is one means by which USDA seeks to insure fairness and soundness in commodity marketing. U.S. exports are required to report to the Foreign Agricultural Service (FAS) information on: (1) The quantity of a reportable commodity to be sold to a foreign buyer; (2) the country of destination; and (3) the marketing year of shipment. The authority to collect this information is found at 7 CFR part 20 and the Agricultural Trade Act of 1978 (7 U.S.C. 5712).

Need and Use of the Information: The information collected provides up-to-date market data to FAS administrative officials for making rational export policy decisions to prevent market disruptions. FAS reports the information to the public so that all market participants can be aware of and evaluate the effects of exports on supply and demand estimates of production, prices, and sales.

Description of Respondents: Business or other for-profit.

Number of Respondents: 380.

Frequency of Responses: Recordkeeping: reporting; quarterly; weekly.

Total Burden Hours: 31,190.

Food Safety and Inspection Service

Title: Application for Inspection, Sanitation, and Exemptions.

OMB Control Number: 0583-0082.

Summary of Collection: The Food Safety and Inspection Service (FSIS) has been delegated the authority to exercise the functions of the Secretary as provided in the Federal Meat Inspection Act (FMIA) (21 U.S.C. 601 et seq.), the Poultry Products Inspection Act (PPIA) (21 U.S.C. 451, et seq.), and the Egg Products Inspection Act (EPIA) (21 U.S.C. 1031). These statutes mandate that FSIS protect the public by ensuring that meat, poultry, and egg products are not adulterated, wholesome, and properly labeled and packaged. FSIS requires meat, poultry, and import establishments to apply for a grant of inspection before they can receive Federal inspection. FSIS requires FSIS accredited non-Federal analytical laboratories to maintain certain paperwork and records.

Need and Use of the Information: FSIS will collect information using several FSIS forms to ensure that all meat and poultry establishments produce safe, wholesome, and unadulterated product, and that non-federal laboratories accord with FSIS regulations. In addition, FSIS will use the information to ensure that meat and poultry establishments exempted from FSIS's inspection do not commingle inspected and non-inspected meat and poultry products; that retail firms qualifying for a retail store exemption and who have violated the provision of the exemption are no longer in violation.

Description of Respondents: Business or other for-profit.

Number of Respondents: 16,755.

Frequency of Responses: Recordkeeping; reporting: on occasion.

Total Burden Hours: 114,583.

Farm Service Agency

Title: Collection of Market Prices.

OMB Control Number: 0560-NEW.

Summary of Collection: The Farm Security and Rural Investment Act of 2002 (2002 Act) and the Commodity Credit Corporation (CCC) Charter Act gives authority in establishing market values for wheat, feed grains, soybeans, minor oilseeds, and pulses. The market values for these agricultural commodities are used to establish posted county prices (PCP) which the Farm Service Agency (FSA) uses under it marketing assistance loan program. The 2002 Act and CCC Charter Act authorizes CCC to determine and announce alternative repayment rates based upon the market prices at appropriate U.S. markets to minimize loan forfeitures, minimize the Federal Government-owned inventory of the commodities, minimize the storage costs incurred by the Federal Government, and minimize discrepancies in marketing loan benefits across State and county boundaries.

Need and Use of the Information: The Kansas City Commodity Office (KCCO) merchandisers will make daily market calls or collect electronic market prices from warehouse operators, as well as examine values from future closes from the Board of Trade, information from the Commodity News Service, and Agricultural Marketing Service. FSA uses the market prices collected to establish PCPs, which provide an estimate of current prices at the county level and which become the alternative repayment rate, or market price, producers may redeem their marketing assistance loans from county FSA offices.

Description of Respondents: Business or other-for-profit.

Number of Respondents: 30.

Frequency of Responses: Reporting: weekly; other (daily).

Total Burden Hours: 1,800.

Risk Management Agency

Title: Standard Reinsurance Agreement Plan of Operations.

OMB Control Number: 0563-NEW.

Summary of Collection: The Federal Crop Insurance Act, title 7 U.S.C. chapter 36 sec. 1508(k) authorizes the Federal Crop Insurance to provide reinsurance to approved insurance providers that insure producers of any agricultural commodity under one or more acceptable plans. The Standard Reinsurance Agreement is a financial agreement between FCIC and the company to provide subsidy and reinsurance on eligible crop insurance. The Plan of Operation provides the information the insurer is required to file for the initial and each subsequent reinsurance year.

Need and Use of the Information FCIC uses the information as a basis for the approval of the insurer's financial and operational capability of delivering the crop insurance program and for evaluating the insurer's performance regarding implementation of procedures for training and quality control. If the information were not collected, FCIC would not be able to reinsure the crop business.

Description of Respondents: Business or other for-profit; Farms; Federal government.

Number of Respondents: 14.

Frequency of Responses: Reporting: annually.

Total Burden Hours: 11,200.

Rural Housing Service

Title: 7 CFR 1944-L, Tenant Grievance and Appeals Procedure.

OMB Control Number: 0575-0046.

Summary of Collection: The Rural Housing Service (RHS) is authorized, under sections 514, 515, and 521 of the Housing Act of 1949, to provide loans and grants to eligible recipients of the development of rural rental/cooperative and labor housing. The agency is responsible for assuring the public that the housing projects financed are managed and operated as mandated by Congress. The multiple family housing projects are intended to meet the housing needs of persons or families who have moderate, low-and very-low incomes, senior citizens, the handicapped and domestic farm laborers. In 1980, RHS implemented a grievance and appeals procedure for tenants, members and applicants for occupancy in multiple family housing. The procedure requires certain information to be collected whenever a tenant wishes to appeal adverse actions by owners/managers of multi-family housing project financed by RHS.

Need and Use of the Information: The information collected is used to notify tenants of the reasons for the adverse actions, to ascertain the viewpoint of the tenant, and in the course of trying to resolve the grievance. The consequence of not collecting the information is that tenants, members or applicants would not be able to exercise their rights provided by the Tenant Grievance Appeals procedure.

Description of Respondents: Business or for-profit.

Number of Respondents: 200.

Frequency of Responses: Recordkeeping; reporting: on occasion.

Total Burden Hours: 82.

Agricultural Marketing Service

Title: Reporting and Recordkeeping Requirements Under Regulations (Other than Rules of Practice) Under the Perishable Agricultural Commodities act, 1930.

OMB Control Number: 0581-0031.

Summary of Collection: The Perishable Agricultural Commodities Act (PACA) establishes a code of fair trading practices covering the marketing of fresh and frozen fruits and vegetables in interstate or foreign commerce. It protects growers, shippers and distributors by prohibiting unfair practices. PACA requires nearly all person who operates as commission merchants, dealers (of which now restaurants are a subset) and brokers buying or selling fruit and or vegetables in interstate or foreign commerce to be licensed. The license for retailers and grocery wholesalers is effective for three years and for all other licensees up to three years, unless withdrawn.

Need and Use of the Information: AMS will collect information from the applicant to administer licensing provisions under the Act. If this information were unavailable, it would be impossible to identify and regulate those individuals or firms that are restricted due to sanctions imposed because of the reparation or administrative actions.

Description of Respondents: Business or other for-profit; not-for-profit institutions; individuals or households; farms.

Number of Respondents: 15,829.

Frequency of Responses: Recordkeeping; reporting: on occasion.

Total Burden Hours: 155,138.

Food and Nutrition Service

Title: Food Stamp Program Regulations, Part 275—Quality Control.

OMB Control Number: 0584-0303.

Summary of Collection: Section 16 of the Food Stamp Act of 1977 provides the legislative basis for the operation of the Food Stamp Program Quality Control system. The Food and Nutrition Service (FNS), as administrator of the Food Stamp Program, requires each State agency to implement a quality control system to provide basis for determining each State agency's error rates through review of a sample of Food Stamp cases. Each State agency is responsible for the design and selection of the quality control samples and must submit a quality control sampling plan for approval to FNS. Additionally, State agencies are required to maintain case records for three years to ensure compliance with provisions of the Food Stamp Act of 1977.

Need and Use of the Information: The quality control sampling plan is necessary for FNS to monitor State operations and is essential to the determination of a State agency's error rate and corresponding entitlement to increased Federal share of its administrative costs or liability for sanctions.

Description of Respondents: State, local, or tribal government; Federal government.

Number of Respondents: 53.

Frequency of Responses: Recordkeeping; reporting: on occasion; annually.

Total Burden Hours: 2,074.

Forest Service

Title: Volunteer Application for Natural Resource Agencies.

OMB Control Number: 0596-0080.

Summary of Collection: The Volunteer Act of 1972, (Pub. L. 92-300) as amended, authorizes the Forest Service (FS) to involve as many volunteers as is efficient, effective, and cost-beneficial to accomplish the FS mission. Volunteers build and maintain trails, construct campground facilities, improve wildlife habitat, and perform other useful and important conservation services. FS will collect information using the Volunteer Application OF 301.

Need and Use of the Information: FS will collect the names, addresses, and certain information of individuals who are interested in public service as volunteers. The information is used by FS Managers for the purpose of contacting applicants and interviewing and screening them for volunteer positions. There could be no program without the information from the application.

Description of Respondents: Individuals or households.

Number of Respondents: 58,100.

Frequency of Responses: Reporting: other (one time).

Total Burden Hours: 14,525.

Sondra Blakey,
Departmental Information Collection Clearance Officer.

[FR Doc. 04-16778 Filed 7-22-04; 8:45 am]

BILLING CODE 3410-34-M